DEPARTMENT OF THE INTERIOR

Geological Survey

[GR.24.NC00.UMR10.NB; OMB Control Number 1028-NEW]

Agency Information Collection Activities; Submission to the Office of Management and Budget for Review and Approval; 1028-NEW Wildlife Morbidity-Mortality or Disease Surveillance Event Reporting

AGENCY: Geological Survey, Department of the Interior.

ACTION: Notice of information collection; request for comment.

SUMMARY: In accordance with the Paperwork Reduction Act of 1995 (PRA), the U.S. Geological Survey (USGS) National Wildlife Health Center (NWHC) is proposing a new information collection in use without OMB approval.

DATES: Interested persons are invited to submit comments on or before September 23, 2024.

ADDRESSES: Written comments and recommendations for the proposed information collection should be sent within 30 days of publication of this notice to www.reginfo.gov/public/do/PRAMain. Find this particular information collection by selecting “Currently under Review—Open for Public Comments” or by using the search function. Please provide a copy of your comments by mail to U.S. Geological Survey, Information Collections Officer, 12201 Sunrise Valley Drive MS 159, Reston, VA 20192; or by email to gs-info_collections@usgs.gov. Please reference OMB Control Number 1028-NEW Wildlife Morbidity in the subject line of your comments.

FOR FURTHER INFORMATION CONTACT: To request additional information about this information collection request (ICR), contact Katherine Richgels by email at krichgels@usgs.gov or by telephone at 608-381-2492. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA (44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on April 19, 2022 (87 FR 23228). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personally identifiable information (PII) in your comment, you should be aware that your entire comment—including your PII—may be made publicly available at any time. While you can ask us in your comment to withhold your PII from public review, we cannot guarantee that we will be able to do so.

Abstract: The USGS NWHC collects information on the presence of highly consequential wildlife diseases and the occurrence of wildlife morbidity/mortality events nationwide to aid in outbreak investigations conducted by land-management agencies and as part of their mission-critical activities associated with response to animal health emergencies (Emergency Support Function 11). The collected information is used in the diagnostic evaluation of specimens submitted to the NWHC and to provide situational awareness of wildlife health issues, including potential zoonotic disease threats of interest to human- and agricultural-health agencies, and species/population impacts to assist management agencies with management decisions. The NWHC requests that State, Federal, and Tribal natural-resource managers report wildlife morbidity and mortality events and collaborate on national-scale surveillance. Reported information includes the location, land ownership, and date(s) where the event occurred; where the carcass was collected or sample was taken; capture methods and sample type; species sampled; individual characteristics such as sex, age, and size; any clinical signs or other event history observed; habitat characteristics known to affect the suspected disease process, such as habitat type, habitat cover, temperature, precipitation, or others; laboratory confirmed or suspected diagnoses; and contact information of the person reporting the event or submitting the sample. The NWHC reports back the results of diagnostic testing and cause of death (if applicable) to the submitter and other parties, such as the U.S. Fish and Wildlife Service Migratory Bird Coordinators, as applicable and provides generalized information to all users through our WHISPers platform where users can search and download current and historical trends in wildlife diseases (in accordance with the open data policy and FAIR standards).

Wildlife health information is shared in international health monitoring efforts through the NWHC's role (along with the Canadian Wildlife Health Cooperative) as a Collaborating Centre for Research, Diagnosis, and Surveillance of Wildlife Pathogens within the World Organization for Animal Health. The NWHC is also a Reference Center for Wildlife Health and Wildlife Disease, a member of the U.S. Department of Agriculture National Animal Health Laboratory Network, and a Food and Agriculture Organization of the United Nations Reference Center for Wildlife Health and Wildlife Disease Diagnostics.

Title of Collection: Wildlife Morbidity/Mortality or Disease Surveillance Event Reporting.

OMB Control Number: 1028-NEW.

Form Number: None.

Type of Review: An existing collection without an OMB approval.

Respondents/Affected Public: Employees of State, Federal, or Tribal agencies, often but not limited to, those with land management authority. Other organizations such as universities or non-government entities often working in partnership or under permit with management agencies.

Total Estimated Number of Annual Respondents: 539.

Total Estimated Number of Annual Responses: 1723.

Estimated Completion Time per Response: Approximately 2-285 min. May vary depending on activity and data provided.

Total Estimated Number of Annual Burden Hours: 1101.

Respondent's Obligation: Voluntary.

Frequency of Collection: Per wildlife health event, or surveillance sampling effort, frequency depends on the number of events experienced by an agency/management unit and specimen collection effort.

Total Estimated Annual Nonhour Burden Cost: None.

An agency may not conduct or sponsor, and a person is not required to respond to a collection of information unless it displays a currently valid OMB control number.

The authority for this action is the PRA of 1995 (44 U.S.C. 3501 et seq.).

Katherine Richgels,
Chief, Ecology and Epidemiology Branch.

[FR Doc. 2024-18907 Filed 8-22-24; 8:45 am]

BILLING CODE 4338-11-P